DEPARTMENT OF ENERGY

Notice of Solicitation of Nominations for Appointment as a Member of the Biomass Research and Development Technical Advisory Committee; Correction

AGENCY: Department of Energy.

ACTION: Notice of solicitation of members; correction.

SUMMARY: On July 15, 2010, the Department of Energy published a notice of solicitation of members (75 FR 41166). This document corrects that notice.

FOR FURTHER INFORMATION CONTACT: Laura McCann, Designated Federal Official for the Committee, Office of Energy Efficiency and Renewable Energy, U.S. Department of Energy, 1000 Independence Avenue, SW., Washington, DC 20585; (202) 586-7766; e-mail: laura.mccann@ee.doe.gov or Christina Fagerholm at (202) 586-2933; e-mail: christina.fagerholm@ee.doe.gov.

In the Federal Register of July 15, 2010, in FR Doc. 2010-17285, on page 41167, please make the following correction:

Under SUPPLEMENTARY INFORMATION, first column, the second to the last paragraph is corrected to read:

“Nominations are open to all individuals without regard to race, color, religion, sex, national origin, age, mental or physical handicap, marital status, or sexual orientation. Please note, however, that registered lobbyists and individuals already serving on another Federal Advisory Committee are ineligible for nomination.”

The deadline for Technical Advisory Committee member nominations is July 30, 2010.

Issued in Washington, DC on July 20, 2010.
Rachel Samuel,
Deputy Committee Management Officer.

[FR Doc. 2010-18127 Filed 7-22-10; 8:45 am]

BILLING CODE 6450-01-P